DEPARTMENT OF LABOR

Employment and Training Administration

[TA-W-59,628]

Cadence Innovation, New Venture Industries, Grand Blanc, MI; Notice of Termination of Investigation

Pursuant to section 221 of the Trade Act of 1974, as amended, an investigation was initiated on June 26, 2006 in response to a petition filed by the United Automobile, Aerospace & Agricultural Implement Workers of America International Union 1C and Local Union 524, on behalf of workers of Cadence Innovation, New Venture Industries, Grand Blanc, Michigan.

The petitioning worker group is covered by an active certification, TA-W-58,625 (amended July 6, 2006), which does not expire until February 23, 2008. Consequently, further investigation in this case would serve no purpose, and the investigation has been terminated.

Signed in Washington, DC, this 7th day of July 2006.
Linda G. Poole,
Certifying Officer, Division of Trade Adjustment Assistance.

[FR Doc. E6-12202 Filed 7-28-06; 8:45 am]

BILLING CODE 4510-30-P